DEPARTMENT OF HEALTH AND HUMAN SERVICES

Indian Health Service

Privacy Act of 1974; Report of Modified or Altered System—Indian Health Service Scholarship and Loan Repayment Programs

AGENCY: Indian Health Service (IHS).

ACTION: Notice of Proposed Modification or Alteration to a System of Records (SOR).

SUMMARY: In accordance with the requirements of the Privacy Act of 1974, the Indian Health Service (IHS) is proposing to modify or alter a SOR, “Indian Health Service Scholarship and Loan Repayment Programs,” System No. 09-17-0002. We propose to modify the SOR to reflect current program changes, technology changes, statutory and implementation changes. Under the system name, we propose no change to the title but the office acronyms have been changed as a result of an organizational change. We are proposing to change the system location to reflect the current organizational and office location changes. We are proposing to update the categories of individuals covered by the system with minor edits to include Tribal medical/health care and Title V Urban healthcare entity; and to update the categories of records in the system with edits to include additional program requirements “(e.g. from W-4, direct deposit form for scholarship recipients and loan repayment participants).” We are proposing to update the Authority for maintenance of the system to correct statutory authorities and to include additional statutory authorities (e.g., Privacy Act, Federal Records Act, and Department Regulations). We are proposing to update the Purposes by categorizing the two programs and modifying/altering by listing the applicable purposes into each of the two programs (Scholarship and Loan Repayment). We are proposing to modify/alter/delete several published routine uses, as explained, to accommodate program and statutory changes as indicated: Numbers 1 through 3 remain unchanged; number 4 is modified/altered to reflect program language revisions and is renumbered as 5; number 5 is modified to include legal proceedings related to administrative claims and the inclusive provision of the Department of Health and Human Services (DHHS)/Office of General Counsel (OGC) representation in litigation matters and is renumbered as 4; number 6 is deleted as no longer applicable; number 7 is renumbered as 6 with no changes in the wording; number 8 is renumbered as 7 with no changes in the wording; number 9 is renumbered as 8 with no changes in the wording; number 10 is renumbered as 9 with minor editorial changes; number 11 is renumbered as 10 with minor editorial changes to include the IHCIA acronym citation (i.e., Indian Health Care Improvement Act, as amended); number 12 is renumbered as 11 with no changes in the wording with the exception of the removal of the statement on “Disclosure to Consumer Reporting Agencies.”

We are proposing to add 7 new routine uses to provide disclosures of records when all requirements are met: number 12, to provide disclosure to consumer reporting agency for commercial credit report and to National Student Clearinghouse using the Loan Location Internet System for verification of applicant's loan data. The statement on “Disclosure to Consumer Reporting Agencies” is now incorporated in this new routine use; number 13, to provide disclosure to any Federal agency on delinquent debtors or defaulting participants to effect salary offset, court-ordered administrative offset, and to the Treasury Department, Internal Revenue Service (IRS) for verification of current mailing address for collection purposes; number 14, to allow disclosure to debt collection agents and those authorized federal or non-federal entities to collect a Federal debt from delinquent debtors or defaulting participants; number 15, to provide disclosure of applicant's information to IRS for verification of any delinquent tax account and to determine credit worthiness; number 16, to provide disclosure of applicant's information to IRS any debt that becomes partly or wholly uncollectible as taxable income; number 17, to allow disclosure to IRS of any IHS debtors or defaulting participants' information for IRS offset on tax refund; number 18, to allow the disclosure of lenders or educational institutions' information to Federal or non-Federal entities authorized to collect Federal debt and for identification of an individual and the nature of the debt.

We are proposing to modify/alter the section on storage by including computerized and electronic formats; the section on safeguards for authorized users by redefining the staff functions; the section on physical safeguards to identify specific safeguards for electronic records; and the section on retention and disposal to reflect separate program changes to the IHS Records Schedule for the scholarship program records and to the loan repayment program records. We are proposing to modify/alter the section on the system managers and addresses to reflect the organization and function changes. Under the notification procedures, we are proposing to modify/alter the sections on requests in person and requests by mail to reflect minor edits and a policy change on Social Security numbers; and the section on requests by telephone by revising the wording in a clear and concise program change. In addition, we are proposing two new notification procedures that address requests by facsimile and requests by electronic mail by including a confidentiality statement on facsimile requests and clarification for electronic requests and its security safeguard risks. Under the records source categories section, we are proposing to modify/alter by including the Indian health program human resources department. This system exemption previously listed as “None” will remain.

DATES: Effective Dates: The Report of Intent to Amend a System of Records Notice and an advance copy of the system notice have been sent to the Chair of the House Committee on Government Reform and Oversight, the Chair of the Senate Committee on Governmental Affairs, and the Administrator, Office of Information and Regulatory Affairs, Office of Management and Budget (OMB). To ensure that all parties have adequate time in which to comment, the modified system of records, including routine uses, will become effective 40 days from the publication of the notice, or from the date it was submitted to OMB and the Congress, whichever is later, unless IHS receives comments that require alterations to this notice.

ADDRESSES: The public should address comments to: Mr. William Tibbitts, IHS Privacy Act Officer, Division of Regulatory Affairs, Records Access and Policy Liaison, Office of Management Services, 801 Thompson Avenue, TMP, Suite 450, Rockville, MD 20852-1627; call non-toll free (301) 443-1116; send via facsimile to (301) 443-2316, or send your e-mail requests, comments, and return address to: William.Tibbitts@ihs.gov.

FOR FURTHER INFORMATION CONTACT: Ms. Patricia Lee-McCoy, Director, Division of Health Professions Support, Office of Public Health Support, 801 Thompson Avenue, TMP, Suite 450A, Rockville, MD 20852-1627, Telephone (301) 443-4242.

SUPPLEMENTARY INFORMATION: A. Major Modification of 09-17-0002, “Indian Health Service Scholarship and Loan Repayment Programs, HHS/IHS/OPHS/DHPS”: is to reflect the organizational, program, technology, statutory and implementation changes.

1. IHS is proposing to update the purposes by categorizing the two programs and listing the applicable purposes into each of the two programs.

2. IHS is proposing to modify/alter/delete several published routine uses and to include seven (7) new routine uses when all requirements have been met. IHS is modifying/altering routine use #4 to reflect program revisions and is renumbered as #5; routine use #5 is modified to include legal proceedings related to administrative claims and in the inclusive provision of the Department of Health and Human Service (DHHS)/Office of General Counsel (OGC) representation in litigation matters and is renumbered as #4; routine use #6 is deleted as no longer applicable; routine use(s) #7, 8, 9, 10, 11, and 12 are renumbered as #6, 7, 8, 9, 10, and 11 respectively.

IHS is proposing to add seven (7) new routine uses as follows: Routine use #12 is to provide disclosure to consumer reporting agency for commercial credit report and to National Student Clearinghouse using the Loan Location Internet System; routine use #13 is to provide disclosure to any federal agency on delinquent debtors or defaulting participants to effect salary offset, court-ordered administrative offset, and to the Treasury Department, Internal Revenue Service (IRS); routine use #14 is to allow disclosure to debt collection agents and authorized federal and non-federal entities for collection purposes; routine use #15 is to provide disclosure of applicant's information to IRS for verification and credit worthiness; routine use #16 is to provide disclosure of applicant's information to IRS on uncollectible debt as taxable income; routine use #17 is allow disclosure to IRS of any IHS debtors or defaulting participants' information for IRS offset on tax refund; and routine use #18 is to allow disclosure of lenders or educational institutions' information to federal or non-federal entities to collect Federal debt, identification of an individual and the nature of the debt.

In addition to updating and making editorial corrections to improve the clarity of the system notice, this alteration requires the updating of the system manager listing, and revisions of the Categories of Records, Purposes, Authority, Safeguard, Retention and Disposal, Notification and Access Procedures sections. IHS is proposing to add two (2) new notification procedures by addressing requests by facsimile and requests by electronic mail.

Dated: January 31, 2007.
Charles W. Grim,
Assistant Surgeon General, Director, Indian Health Service.

Department of Health and Human Resources

09-17-0002

System name:

Indian Health Service Scholarship and Loan Repayment Programs, HHS/IHS/OPHS/DHPS.

Security classification:

None.

System location:

Office of Public Health Support (OPHS), Division of Health Professions Support (DHPS), Scholarship Branch, Loan Repayment Branch, Health Professions Support Branch, Indian Health Service, 12300 Twinbrook Parkway, Suite 450A, Rockville, MD 20852. Washington National Records Center, 4205 Suitland Road, Suitland, MD 20746-8001. Records are also located at the Indian Health Service (IHS) Area Offices. A list of the IHS Area Offices where individually identifiable data are currently located is available upon request to the Policy-Coordinating Official(s) at IHS Headquarters East, 12300 Twinbrook Parkway, Suite 450A, Rockville, MD 20852.

Categories of individuals covered by the system:

Applicants for and recipients of benefits from scholarship and loan repayment programs administered by the IHS. The IHS scholarship program includes the Health Professions Pre-Graduate Scholarship Program for Indians, the Health Professions Preparatory Scholarship Program for Indians; and the Health Professions Scholarship Program for Indians. Also included are records of scholarship or loan repayment recipients who are fulfilling their IHS service obligations as a result of receiving funds from these IHS programs, and individuals who have an expressed and/or obligated interest in employment in or an assignment to an IHS medical facility, Tribal medical/health care facility, Title V urban healthcare entity, or other facility described in sections 104 and 108 of the Indian Health Care Improvement Act, as amended (IHCIA).

Categories of records in the system:

Contains: Name, telephone number(s), work, school, home and/or mailing address; Social Security number; IHS scholarship or IHS loan repayment application; associated forms; employment data; professional performance and credentialing history of licensed health professionals; preference for site selection; personal, professional, and demographic background information; progress reports (which include related data, correspondence, and professional performance information); payroll forms; lender's loan repayment confirmation forms; Form W-4 (for withholding Federal taxes on scholarship recipients monthly stipends); IHS loan recipient's direct deposit form request (for monthly stipends for scholarship recipients and for annual loan repayment distribution among participants in the programs); deferment and placement data; and repayment/delinquent/default status information.

Authority for maintenance of the system:

25 U.S.C. 1613, including the Health Professions Preparatory Scholarship Program for Indians; 25 U.S.C. 1613a, Indian Health Professions Scholarship; 25 U.S.C. 1616a, IHS Loan Repayment Program; 5 U.S.C. 5514, Requirement That Applicant Furnish Taxpayer Identifying Number; 42 U.S.C. 216(a), for PHS Commissioned Corps Officers, and 5 U.S.C. 3301 for civil service employees, both of which authorize verification of an individual's suitability for employment; Federal Records Act “44 U.S.C. 2901 et seq.”; Privacy Act of 1974, as amended (5 U.S.C. 552a); Department Regulation “5 U.S.C. 301”; and 42 U.S.C. 254f, Assignment of Corps Personnel.

Purpose(s):

The purposes of this system of records are as follows:

1. The IHS Scholarship Programs.

(a) To select applicants for the IHS Scholarship Programs;

(b) To monitor scholarship related activities, such as payment tracking, deferment and/or postponement of service obligations owed default, placement, and debt collection through national credit company subscription(s);

(c) To select and match IHS scholarship recipients for qualified employment assignments with the following: IHS medical facilities, including but not limited to hospitals, health clinics and ambulatory stations; and any other programs as required under 25 U.S.C. 1616a;

(d) To monitor services provided by these IHS scholarship recipient/participant/obligated health care providers;

(e) To maintain records on and to verify individuals' credentials, educational background, prior and current performance history and data and previous and current employment and professional history information to verify and validate all claimed credentials are current, accurate, and in good standing;

(f) To assist Department of Health and Human Services (DHHS), Program Support Center (PSC) and other government officials in the collection of any and all overdue debts owed under the IHS Scholarship Program; and

(g) To negotiate site assignments, and to recruit and retain health professionals for Indian Health programs. Portions of records from this system of records may be used by staff of the DHHS/PSC; Division of Financial Operations (DFO), Debt Management, who maintain System No. 09-40-0012, “Debt Management and Collection System” and System No. 09-90-0024, “Unified Financial Management System”, for activities related to the participant's breach of contract including debt collection information provided to PSC staff includes, but may not be limited to the participant's personal identification, number of years of support in school while covered by an IHS scholarship contract, number of days served and still owed, and amount of funds expended and still owed.

2. The IHS Loan Repayment Agreement Program.

(a) To select applicants for the IHS Loan Repayment Program;

(b) To monitor loan repayment related activities including but not limited to service obligations, default and claims determinations;

(c) To assure IHS loan repayment recipients match to a health care facility serving high priority health professional shortage areas or populations as outlined by current IHS scoring criteria policy and procedure, such as IHS medical facilities, including but not limited to hospitals, health clinics and ambulatory stations; and any other programs as required under 25 U.S.C. 1616a;

(d) To monitor service provided by IHS loan repayment participants;

(e) To maintain records on and to verify individuals' credentials and educational background;

(f) To assist PSC and other governmental officials in the collection of overdue debts owed under the IHS Loan Repayment Agreement Program; and

(g) To negotiate site assignments, and recruit and retain health professionals for Indian Health programs. Portions of records from this system of records may be used by staff of the DHHS/PSC; Division of Financial Operations (DFO), Debt Management, who maintain System No. 09-40-0012, “Debt Management and Collection System” and System No. 09-90-0024, “Unified Financial Management System”, for activities related to the participant's breach of contract including debt collection information provided to PSC staff includes, but may not be limited to the participant's personal identification, number of days served and still owed, and amount of funds expended and still owed.

Routine uses of records maintained in the system, including categories of users and the purposes of such uses:

1. IHS may disclose records to a congressional office in response to a verified inquiry from the congressional office made at the written request of the subject individual.

2. Records may be disclosed to authorized persons employed by the grantee institution (the educational institution which the recipient of a scholarship grant is attending or the hospital affiliated with an educational institution the IHS loan repayment recipient is attending to complete his or her residency requirement) as needed for the administration of a scholarship grant award.

3. Records may be disclosed to other Federal agencies that also provide scholarship funding at the request of these Federal agencies to detect or curtail fraud and abuse in Federal scholarship programs, and to collect delinquent loans or benefit payments owed to the Federal Government.

4. IHS may disclose information from these records in litigations and/or proceedings related to an administrative claim when:

(a) IHS has determined that the use of such records is relevant and necessary to the litigation and/or proceedings related to an administrative claim and would help in the effective representation of the affected party listed in subsections (i) through (iv) below, and that such disclosure is compatible with the purpose for which the records were collected. Such disclosure may be made to the DHHS/Office of General Counsel (OGC) and/or Department of Justice (DOJ), pursuant to an agreement between IHS and OGC, when any of the following is a party to litigation and/or proceedings related to an administrative claim or has an interest in the litigation and/or proceedings related to an administrative claim:

(i) DHHS or any component thereof; or

(ii) Any DHHS employee in his or her official capacity; or

(iii) Any DHHS employee in his or her individual capacity where the DOJ (or DHHS, where it is authorized to do so) has agreed to represent the employee; or

(iv) The United States or any agency thereof (other than DHHS) where HHS/OGC has determined that the litigation and/or proceedings related to an administrative claim is likely to affect DHHS or any of its components.

(b) In the litigation and/or proceedings related to an administrative claim described in subsection (a) above, information from these records may be disclosed to a court or other tribunal, or to another party before such tribunal in response to an order of a court or administrative tribunal, provided that the covered entity discloses only the information expressly authorized by such order.

5. IHS may provide to any organization, program or facility administered under the authority of the IHCIA (Pub. L. 93-437, 25 U.S.C. 1601 et seq.) solely to provide health care services for the benefit of Indians, whether directly by our service; or by any federally recognized Tribe under authority of the Indian Self-Determination and Education Assistance Act (ISDEAA) (Pub. L. 93-638, as amended, 25 U.S.C. 450 et seq.); a list of obligated recipients of scholarship grants, and any relevant information pursuant to recruiting and retaining these individuals for the purpose of meeting the health care needs of the requesting organization, program, facility or the federally recognized Tribe under IHCIA and ISDEAA.

6. IHS may disclose records consisting of names, disciplines, current mailing addresses, and dates of graduation of scholarship recipients and loan repayment program participants to IHS discipline representatives, IHS and Tribal scholarship coordinators, and Indian health program health professional recruiters for the purpose of mentoring students during their training, assisting them to find appropriate positions upon completion of their training, and helping them to understand the nature of their professional service obligation.

IHS may disclose records consisting of names of the IHS scholarship or IHS loan repayment recipient, professional school he or she is attending, and the date of graduation to Indian health programs as defined by the IHCIA; health professions associations and other interested health professions groups which have responsibility for coordinating funds paid to students from Federal and other sources.

8. IHS may disclose records contained in this system of records to HHS contractors and subcontractors for the purpose of collecting, compiling, aggregating, analyzing, or refining records in the system. Contractors and/or subcontractors are required to maintain Privacy Act safeguards with respect to such records.

9. IHS may disclose records contained in this system of records to HHS contractors and subcontractors for the purpose of recruiting, screening, and matching health/allied health professionals for assignment to or employment in a medical facility located in one of the options cited in section 108(a)(2)(A) of the IHCIA. In addition, HHS contractor and subcontractors:

(a) May disclose biographic data and information supplied by potential applicants;

(i) To references listed on application and associated forms for the purpose of evaluating the applicant's professional qualifications, experience, and suitability; and

(ii) To a state or local Government medical licensing board and/or to the Federation of State Medical Boards or a similar non-Government entity for the purpose of verifying that all claimed background and employment data are valid and all claimed credentials are current and in good standing.

(b) May disclose biographic data and information supplied by references listed on application and associated forms to other references for the purpose of inquiring into the applicant's professional qualifications and suitability; and

(c) May disclose professional suitability evaluation information to IHS officials, prospective employers, or to officials of prospective employers, or to site representatives, for the purpose of appraising the applicant's professional qualifications and suitability for site assignment or employment.

Contractors and/or subcontractors are required to maintain Privacy Act safeguards with respect to such records.

10. IHS may disclose records contained in this system of records to private parties such as present and former employers references listed on application and associated forms, other references, and education institutions. The purpose of such disclosures is to obtain information to evaluate an individual's professional accomplishments, performance, and educational background, and to determine if an applicant is suitable for employment in/assignment to a medical facility located at one of the sites listed in section 108(a)(2)(A) of the IHCIA.

11. IHS may disclose records contained in this system of records to other Federal agencies that also provide scholarship or educational loan repayment funding at the request of these Federal agencies in conjunction with a computer matching program conducted by these Federal agencies to detect or curtail fraud and abuse in Federal scholarship or educational loan repayment programs, and to collect delinquent loans or benefit payments owed to the Federal Government.

12. IHS may disclose information from this system of records to a consumer reporting agency (credit bureau) to obtain an applicant's or participant's commercial credit report for the following purposes: (1) To establish his or her credit worthiness; (2) to assess and verify his or her ability to repay debts owed to the Federal Government; and (3) to determine and verify the eligibility of loans submitted for repayment. IHS may also disclose information from this system of records to the National Student Clearinghouse using the Loan Locator Internet System or similar system to assist in the verification of loan data submitted by Loan Repayment Program (LRP) applicants. Disclosures are limited to the individual's name, address, Social Security number and other information necessary to identify him or her; locate all student loans and verify payment addresses; identify the funding being sought or amount and status of the debt; and the program under which the applicant or claim is being processed.

Disclosure to consumer reporting agencies:

Disclosures pursuant to 5 U.S.C. 552a(b)(12): Disclosures may be made from this system to “consumer reporting agencies” as defined in the Fair Credit Reporting Act (15 U.S.C. 158a(f)) or the Federal Claims Collection Act of 1966 (31 U.S.C. 3701(a)(3)). The purposes of these disclosures are: (1) To provide an incentive for debtors to repay delinquent Federal Government debts by making these debts part of their credit records; and (2) to enable PHS agencies to improve the quality of loan and scholarship decisions by taking into account the financial reliability of applicants. Disclosure of records will be limited to the individual's name, social security number, and other information necessary to establish the identity of the individual, the amount, status, and history of the claim, and the agency or program under which the claim arose.

13. IHS may disclose from this system of records a delinquent debtor's or a defaulting participant's name, address, social security number, and other relevant information necessary to identify him or her; the amount, status, and the history of the claim; and the agency or program under which the claim arose, as follows:

(a) To any Federal agency to effect a salary offset for debts owed by Federal employees; if the claim arose under the Social Security Act, and the employee must have agreed in writing to the salary offset with the supporting document from the requesting Federal agency.

(b) To any Federal agency to effect authorized administrative offset; i.e., withhold money, other than Federal salaries, payable to or held on behalf of the individual that is court ordered and/or in accordance with a specific law/mandate.

(c) To the Treasury Department, Internal Revenue Service (IRS), to request an individual's current mailing address to locate him or her for purposes of either collecting or compromising a debt or to pay a commercial credit report prepared.

14. IHS may disclose to debt collection agents, other Federal agencies, and other third parties who are authorized to collect a Federal debt, information necessary to identify a delinquent debtor or a defaulting participant. Disclosure will be limited to the individual's name, address, social security number, and other information necessary to identify him or her; the amount, status, and history of the claim; and the agency or program under which the claim arose.

15. IHS may disclose to the IRS information about an individual applying for the IHS loan repayment or scholarship program authorized by the Public Health Service Act to find out whether the applicant has a delinquent tax account. This disclosure is for the sole purpose of determining the applicant's creditworthiness and is limited to the individual's name, address, social security number, and other relevant information necessary to identify him or her, and the program for which the information is being obtained.

16. IHS may report to the IRS, as taxable income, the written-off amount of a debt owed by an individual to the Federal Government when a debt becomes partly or wholly uncollectible, either because the time period for collection under statute or regulations has expired, or because the government agrees with the individual to forgive or compromise the debt.

17. IHS may disclose from this system of records to the Department of Treasury, IRS: (1) A delinquent debtor's or a defaulting participant's name, address, social security number, and other relevant information necessary to identify the individual; (2) the amount of the debt; and (3) the program under which the debt arose, so that the IRS can offset against the debt any income tax refunds which may be due to the individual.

18. IHS may disclose information provided by the lender or education institution to other Federal agencies, debt collection agents, and other third parties who are authorized to collect a Federal debt. The purpose of this disclosure is to identify an individual who is delinquent in loan or benefit payments owed to the Federal Government and the nature of the debt.

Policies and practices for storing, retrieving, accessing, retaining, and disposing of records in the system:

Storage:

Records are maintained in paper format (i.e., file folders), and in computerized and electronic format (i.e., forms, database(s), etc.).

Retrievability:

Records which identify individual persons are indexed by name or assigned identification number of scholarship or loan repayment applicant or recipient.

Safeguards:

1. Authorized users: Access is limited only to authorized personnel in the performance of their duties. Authorized personnel include and are limited to: The system manager, his or her staff, IHS Area Office Scholarship or IHS Loan Repayment Coordinators, IHS Headquarters Branch Chiefs while acting as advisors to scholarship or IHS loan repayment recipients, and PSC debt management staff for activities related to the participant's breach of contract including debt collection.

2. Physical safeguards: Paper records are stored in locked file cabinets. The records storage areas are secured during off-duty hours. Electronic records are stored in areas where fire and life safety codes are strictly enforced. Any and all records pertaining to IHS Scholarship and Loan Repayment Program databases are to be enforced by the current Security Guidelines provided by HHS/IHS. All automated and non-automated documents are protected during lunch hours and non-working hours in locked file cabinets or locked storage areas. The Automated Data Processing remote stations are locked during non-standard working hours. Twenty-four hour, 7-day security guards perform random checks on the physical security of the data and the storage areas. Backup files are maintained in an off-site facility with controlled entrances and exits.

3. Procedural safeguards: All IHS personnel who make use of records contained in this system are made aware of their responsibilities under the provisions of the Privacy Act and are required to maintain Privacy Act safeguards with respect to such records. The records storage areas are not left unattended during office hours, including lunch hours. Records are not removed from these areas in which they are maintained in the absence of proper charge-out procedures. Twenty-four hour, seven-day security guards perform random checks on the physical security of all records storage areas. A data set name controls the release of data to only authorized users. When copying records for authorized purposes, care is taken to ensure that any imperfect pages are not left in the reproduction room where they can be read, but are destroyed or obliterated.

Retention and disposal:

1. Scholarship applications of individuals not selected for participation in the program are retained for 1 full year, and then destroyed by shredding. Applications, contracts, and other records of IHS scholarship recipients are retained through the completion or other disposition of the scholarship service obligation, then sent to the Federal Records Center (FRC) for an additional 15-year retention period and destroyed in accordance with FRC disposal standards. Automated historical tapes are sent to a FRC and the initial records are destroyed in accordance with IHS Records Control Schedule.

The records for the scholarship applicants, who are not obligated to the IHS, are destroyed 6 years and 3 months after final payment, or upon resolution of any adverse audit findings, whichever is later.

2. Loan repayment applications of individuals not selected for participation in the program are retained until the end of the fiscal year. Loan repayment applications, upon notification, are applied to the loan repayment cycle of the following fiscal year. The records for the loan repayment participants are destroyed 6 to 10 years after the final payment, or upon resolution of any adverse audit findings, whichever is later.

Records are transferred to the FRC 2 years after final repayment or when closed, for 4 years, and are then subsequently disposed of in accordance with the IHS Records Disposition Schedule. The IHS Records Disposition Schedule regulations for these records may be obtained by writing to the System Manager(s) at the address listed below.

System manager(s) and address:

Policy Coordinating Official(s):

Director, Division of Health Professions Support, Office of Public Health Support, Indian Health Service, 12300 Twinbrook Parkway, Suite 450A, Rockville, Maryland 20852.

Director, Division of Grants Operations, Office of Management Services, Indian Health Service, 12300 Twinbrook Parkway, Suite 360, Rockville, Maryland 20852.

Chief, Scholarship Branch, Division of Health Professions Support, Office of Public Health Support, Indian Health Service, 12300 Twinbrook Parkway, Suite 450A, Rockville, Maryland 20852.

Chief, Loan Repayment Branch, Division of Health Professions Support, Office of Public Health Support, Indian Health Service, 12300 Twinbrook Parkway, Suite 450A, Rockville, Maryland 20852.

Notification procedures:

Requests in person: A subject individual who appears in person at a specific location seeking access to or disclosure of records relating to him or her shall provide his or her name, current address, Grant Identification Number, last four digits of their social security number or other identification numbers, dates of enrollment in the IHS scholarship or loan repayment program, and at least one piece of tangible identification such as a driver's license, passport, or voter registration card. Identification papers with current photographs are preferred, but not required. If a subject individual has no identification, but is personally known to an agency employee, such employee shall make a written record verifying the subject individual's identity. Where the subject individual has no identification papers, the responsible agency official shall require that the subject individual certify in writing that he or she is the individual who he or she claims to be and that he or she understands that the knowing and willful request or acquisition of a record concerning an individual under false pretense is a criminal offense subject to a 5,000 dollar fine.

Requests by mail: A written request must contain the name and address of the requestor, last 4 digits of their respective social security number and/or signature which is either notarized to verify his or her identity or includes a written certification that the requestor is the person he or she claims to be and that he or she understands that the knowing and willful request or acquisition of records pertaining to an individual under false pretenses is a criminal offense subject to a 5,000 dollar fine. In addition, the following information is needed: Dates of enrollment in the IHS Scholarship Program or IHS Loan Repayment Agreement program, and current enrollment status, such as pending application approval, deferment or service obligation, or shortage area placement.

Requests by facsimile: A written request must contain the name and address of the requestor, last 4 digits of their respective social security number and/or signature. In addition, the following information is needed: Dates of enrollment in the IHS scholarship program or IHS Loan Repayment Agreement Program, and current enrollment status, such as pending application approval, deferment or service obligation, or shortage area placement. The IHS Scholarship and Loan Repayment programs will authorize transmission and reception of all faxed information only if the fax cover sheets contain the following Confidentiality Statement or a similar standard procedural statement for liability purposes:

“THIS FAX IS INTENDED ONLY FOR THE USE OF THE PERSON OR OFFICE TO WHOM IT IS ADDRESSED, AND CONTAINS PRIVILEGED OR CONFIDENTIAL INFORMATION PROTECTED BY LAW. ALL RECIPIENTS ARE HEREBY NOTIFIED THAT INADVERTENT OR UNAUTHORIZED RECEIPT DOES NOT WAIVE SUCH PRIVILEGE, AND THAT UNAUTHORIZED DISSEMINATION, DISTRIBUTION, OR COPYING OF THIS COMMUNICATION IS PROHIBITED. IF YOU HAVE RECEIVED THIS FAX IN ERROR, PLEASE DESTROY THE ATTACHED DOCUMENT(S) AND NOTIFY THE SENDER OF THE ERROR BY CALLING.”

Requests by telephone: Since positive identification of the caller cannot be established, telephone requests are not honored; the caller is asked to submit his or her request in writing.

Requests by electronic mail: Since positive identification of the requestor cannot be established, and the electronic transmission of personal identifiers is not encrypted, the security safeguards is not guaranteed from an unauthorized disclosure, so electronic mail requests are not honored and will be deleted from the IHS e-mail system; and the computer user is asked to submit his or her request in writing and/or by facsimile transmission.

Record access procedures: Same as notification procedures. Requestors should also provide a reasonable description of the record being sought. Requestors may also request an accounting of disclosures that have been made of their record, if any.

Contesting record procedures:

Contact the Policy Coordinating Official(s), provide a reasonable description of the record, and specify the information being contested, the corrective action sought, and the reasons for requesting the correction, along with supporting information to show how the record is inaccurate, incomplete, untimely, or irrelevant.

Record source categories:

Information will be collected from the following sources:

Education institutions attended; internship and/or residency training progress reports; IHS site selection questionnaires; IHS Scholarship or Loan Repayment applicants; Indian health programs human resources department; financial institutions from which these applicants have obtained educational loans; Bureau of Health Professions Area Resources File tapes; health professional associations; HHS contractors/subcontractors; consumer reporting agencies/credit bureaus; lending institutions; PHS Commissioned Personnel Operations Division and U.S. Office of Personnel Operations Division and U.S. Office of Personnel Management personnel records; other Federal agencies, including but not limited to the Department of Treasury, the IRS, and the U.S. Postal Service; State or local Government medical licensing boards and/or the Federation of State Medical Boards or a similar non-Government entity; and third parties who provide references concerning the subject individual.

Systems exempted from certain provisions of the Act:

None.

[FR Doc. 07-501 Filed 2-5-07; 8:45 am]

BILLING CODE 4165-16-M